DEPARTMENT OF STATE

[Public Notice 8481]

Shipping Coordinating Committee; Notice of Committee Meeting

The Shipping Coordinating Committee (SHC) will conduct an open meeting at 9:30 a.m. on Wednesday, November 6, 2013, in Room 5L18-01 of the United States Coast Guard Headquarters Building, 2703 Martin Luther King Jr. Ave SE., Washington, DC 20593. The primary purpose of the meeting is to prepare for the 27th Extraordinary Council Session, the 28th Assembly, and the 111th Council Session of the International Maritime Organization (IMO), to be held at the IMO Headquarters, United Kingdom, November 21-22; November 25-December 4; and, December 5, respectively.

The agenda items for C/ES 27, to be considered include:

—Adoption of the agenda

—Report of the Secretary-General on credentials

—Strategy, planning and reform

—Resource management

—Results-based budget for the 2014-2015 biennium

—Report on the 35th Consultative Meeting of Contracting Parties to the London Convention 1972 and the 8th Meeting of Contracting Parties to the 1996 Protocol to the London Convention

—Report of the Council to the Assembly on the work of the Organization since the twenty-seventh regular session of the Assembly

—Protection of vital shipping lanes

—Periodic review of administrative requirements in mandatory IMO instruments

—External relations

—Report on the status of the Convention and membership of the Organization

—Report on the status of conventions and other multilateral instruments in respect of which the Organization performs functions

—Supplementary agenda items, if any

The agenda items for A 28, to be considered include:

—Adoption of the agenda

—Election of the President and the Vice-Presidents of the Assembly

—Consideration of proposed amendments to the Rules of Procedure of the Assembly

—Application of Article 61 of the IMO Convention—Report of the Council to the Assembly on any requests by Members for waiver

—Establishment of committees of the Assembly

—Consideration of the reports of the committees of the Assembly

—Report of the Council to the Assembly on the work of the Organization since the twenty-seventh regular session of the Assembly

—Strategy, planning and reform

—Voluntary IMO Member State Audit Scheme

—Consideration of the reports and recommendations of the Maritime Safety Committee

—Consideration of the reports and recommendations of the Legal Committee

—Consideration of the reports and recommendations of the Marine Environment Protection Committee

—Consideration of the reports and recommendations of the Technical Co-operation Committee

—Consideration of the reports and recommendations of the Facilitation Committee

—Consideration of proposed amendments

—Report on the 2012 International Conference on the Safety of Fishing Vessels

—Progress report to the Assembly in compliance with resolution A.1043(27) on Periodic review of administrative requirements in mandatory IMO instruments

—Convention on the Prevention of Marine Pollution by Dumping of Wastes and Other Matter, 1972 and the 1996 Protocol thereto: report on the performance of Secretariat functions and other duties

—Resource management

—Global maritime training institutions

—External relations

—Report on the status of the Convention and membership of the Organization

—Report on the status of conventions and other multilateral instruments in respect of which the Organization performs functions

—Election of Members of the Council, as provided for in Articles 16 and 17 of the IMO Convention

—Election of Members of the IMO Staff Pension Committee

—Date and place of the twenty-ninth regular session of the Assembly

—Supplementary agenda items, if any

No agenda has been published for C 111.

Members of the public may attend this meeting up to the seating capacity of the room. To facilitate the building security process, and to request reasonable accommodation, those who plan to attend should contact the meeting coordinator, LCDR Matt Frazee, by email at matthew.p.frazee@uscg.mil, or by phone at (202) 372-1376, not later than October 30, 7 days prior to the meeting. Requests made after October 30, 2013 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: September 17, 2013.
Marc Zlomek,
Executive Secretary, Shipping Coordinating Committee, Department of State.

[FR Doc. 2013-23190 Filed 9-23-13; 8:45 am]

BILLING CODE 4710-09-P